DEPARTMENT OF JUSTICE

[OMB 1140-0046]

Agency Information Collection Activities; Proposed eCollection eComments Requested; Revision of a Previously Approved Collection; LEO Certification Letter for Official Duty Firearm Purchase

AGENCY: Bureau of Alcohol, Tobacco, Firearms, and Explosives; Department of Justice

ACTION: 60-day notice.

SUMMARY: The Department of Justice (DOJ), Bureau of Alcohol, Tobacco, Firearms, and Explosives (ATF), will be submitting the following information collection request to the Office of Management and Budget (OMB) for review and approval in accordance with the Paperwork Reduction Act of 1995.

DATES: ATF encourages comments on this information collection. You may submit written comments until midnight on April 27, 2026.

ADDRESSES: Submit written comments and recommendations for this information collection, especially on the estimated public burden or associated response time, to Jason Gluck, Firearms Industry Programs Branch, by email to FIPB@atf.gov, or by mail to 99 New York Avenue NE, 6N-509; Washington, DC 20226. Identify comments by the OMB control number 1140-0046. You may view the proposed information collection instrument online at https://www.atf.gov/rules-and-regulations/federal-register-actions/forms-and-information-collection.

FOR FURTHER INFORMATION CONTACT: If you have questions or need a copy of the proposed information collection instrument with instructions or additional information, contact: Jason Gluck, FIPB, either by mail at 99 New York Avenue NE, 6N-509; Washington, DC 20226, by email at FIPB@atf.gov, or by telephone at 202-648-7190.

SUPPLEMENTARY INFORMATION: We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Overview of This Information Collection

1. Abstract: Regulations under 27 CFR 555.128 require explosives licensees/permittees to transfer required records to the ATF Out-of-Business Records Center when they discontinue business without a successor. The records on licensee/permittee importing, manufacturing, shipping, receiving, selling, or otherwise disposing of explosive materials aid ATF in conducting investigations into trafficking and other criminal misuse of explosives.

2. Type of information collection: revising of a previously approved collection.

3. Title of the form/collection: LEO Certification Letter for Official Duty Firearm Purchase.

4. Agency form number, if any, and the applicable component of the Department sponsoring the collection:

Form number: none.

Component: Bureau of Alcohol, Tobacco, Firearms, and Explosives; U.S. Department of Justice.

5. Affected public who will be asked or required to respond, as well as the obligation to respond:

Affected public: individuals or households, private sector for- or not-for-profit institutions.

Obligation to respond: mandatory per Title 27 CFR 478.134.

6. Estimate of the total number of respondents and the amount of time estimated for an average respondent to respond: An estimated 50,000 respondents will apply for a firearm for official duty purposes once annually, and it will take each respondent approximately 8 minutes (0.13 hours) to complete their responses.

7. Estimate of the total annual burden (in hours) associated with the collection: The estimated annual public burden associated with this collection is 6,500 total hours, which is equal to 50,000 (total respondents) * 1 (# of responses per respondent) * 0.13 (8 minutes).

8. Estimate of the total annual other cost burden associated with the collection, if applicable: $0.

Estimated Total Hourly Burden
Activity | Number of respondents | Frequency | Total annual responses | Time per response (hours) | Total annual burden (hours)
Certification (third-party disclosure) | 50,000 | 1 | 50,000 | 0.13 hours (8 mins) | 6,500

Revisions to This Information Collection

ATF is revising this information collection, OMB 1140-0046, to reflect the change in hourly pay for a first-line supervisor of police or detectives since the last time this hourly wage was calculated, resulting in a change from $46 to $71 (rounded). Although the number of respondents and the amount of time it takes to complete the certification letter have remained the same, the hourly wage rate change results in a change to the monetized value of respondent time. In addition, ATF is including monetized value of this time due to recent OMB changes and has also made small revisions to the title to make it easier to read.

If you require additional information, contact: Darwin Arceo, Department Clearance Officer; United States Department of Justice; Justice Management Division, Enterprise Portfolio Management; Two Constitution Square, 145 N Street NE, 4W-218; Washington, DC.

Dated: February 23, 2026.
Darwin Arceo,
Department Clearance Officer for PRA, U.S. Department of Justice.

[FR Doc. 2026-03760 Filed 2-24-26; 8:45 am]

BILLING CODE 4410-FY-P